DEPARTMENT OF COMMERCE

National Oceanic and Atmospheric Administration

RIN 0648-XG642

Fishing Capacity Reduction Program for the Southeast Alaska Purse Seine Salmon Fishery

AGENCY: National Marine Fisheries Service (NMFS), National Oceanic and Atmospheric Administration (NOAA), Commerce.

ACTION: Notice of eligible voters; referendum voting period.

SUMMARY: NMFS issues this notice to inform persons of their eligibility to vote and the voting period for the proposed second fishing capacity reduction program loan in the Southeast Alaska Purse Seine Salmon Fishery. This notice informs the public of the permanent permit holders eligible to vote in the referendum. The referendum, if approved, will result in a loan of $10.1 million and permanently retire an additional 36 permits from the fishery.

DATES: Comments must be submitted on or before 5 p.m. EST January 2, 2019. The referendum voting period will start January 15, 2019 and end on February 14, 2019. Any votes not received by NMFS by 5 p.m. on February 14, 2019, will not be counted.

ADDRESSES: Send comments about this notice to Michael A. Sturtevant, Acting Chief, Financial Services Division, NMFS, Attn: SE Alaska Purse Seine Salmon Buyback, 1315 East-West Highway, Silver Spring, MD 20910 (see FOR FURTHER INFORMATION CONTACT).

FOR FURTHER INFORMATION CONTACT: Elaine Saiz at (301) 427-8752, fax (301) 713-1306, or elaine.saiz@noaa.gov.

SUPPLEMENTARY INFORMATION:

I. Background

The Southeast Alaska purse seine salmon fishery is a commercial fishery in Alaska state waters and adjacent Federal waters. It encompasses the commercial taking of salmon with purse seine gear, and participation is limited to fishermen designated by the Alaska Commercial Fisheries Entry Commission (CFEC). Congress authorized a $23.5 million loan to finance a fishing capacity reduction program in the Southeast Alaska purse seine salmon fishery. NMFS published proposed program regulations on May 23, 2011 (76 FR 29707), and final program regulations on October 6, 2011 (76 FR 61986), to implement the reduction program. Interested persons should review these for further program details.

In 2012, NMFS conducted a referendum to determine the remaining fishermen's willingness to repay a $13.1 million fishing capacity reduction loan to remove 64 permits. After a majority of permit holders approved the loan, NMFS disbursed payments to the successful bidders and began collecting fees to repay the loan. Since only $13.1 million was expended from the total loan amount, $10.4 million remains available. This referendum, if approved, will result in a loan of $10.1 million and permanently retire an additional 36 permits from the fishery.

In June, 2018, the Southeast Revitalization Association submitted a capacity reduction plan to NMFS and NMFS approved the plan in November, 2018. The final regulations require NMFS to publish this notice before conducting a referendum to determine the industry's willingness to repay a fishing capacity reduction loan to purchase the permits identified in the reduction plan.

As of November 16, 2018, there are 315 permits in the fishery designated as S01A by CFEC. These permanent permit holders are eligible to vote in the referendum.

Comments may address: (1) Persons who appear on the list below but should not; (2) persons who do not appear on the list but should; (3) persons whose names and/or business mailing addresses are incorrect; and (4)any other pertinent matter. NMFS will update the list, as necessary, immediately before mailing referendum ballots. Mailed ballots will be accompanied by NMFS' detailed voting guidance.

II. Referendum Voting Period

The referendum voting period will start January 15, 2019 and end on February 14, 2019. Any votes not received by NMFS by 5 p.m. on February 14, 2019, will not be counted. The following list of eligible voters was provided by CFEC on November 13, 2018:

BILLING CODE 3510-22-P

Dated: November 27, 2018.
Brian T. Pawlak,
CFO/Director, Office of Management and Budget, National Marine Fisheries Service.

[FR Doc. 2018-26178 Filed 11-30-18; 8:45 am]

BILLING CODE 3510-22-C